DEPARTMENT OF LABOR

Employment and Training Administration

[TA-W-55,111]

Cemco, Inc., Whitesburg, TN; Notice of Termination of Investigation

Pursuant to section 221 of the Trade Act of 1974, as amended, an investigation was initiated on June 16, 2004, in response to a petition filed by the company on behalf of workers at Cemco, Inc., Whitesburg, Tennessee.

The petitioner has requested that the petition be withdrawn. Consequently, further investigation in this case would serve no purpose, and the investigation has been terminated.

Signed at Washington, DC this 28th day of June, 2004.
Elliott S. Kushner,
Certifying Officer, Division of Trade Adjustment Assistance.

[FR Doc. 04-16292 Filed 7-16-04; 8:45 am]

BILLING CODE 4510-30-P